DEPARTMENT OF DEFENSE

Department of the Army

Final Environmental Impact Statement Addressing Heat and Electrical Upgrades at Fort Wainwright, Alaska

AGENCY: Department of the Army, DoD.

ACTION: Notice of Availability.

SUMMARY: The Department of the Army (Army) announces the availability of the Final Environmental Impact Statement (Final EIS) addressing heat and electrical upgrades at Fort Wainwright, Alaska. The current coal-fired central heat and power plant (CHPP) and its aging heat distribution system require an upgrade that resolves safety, resiliency, fiscal, and regulatory concerns. The Final EIS analyzes and evaluates reasonable alternatives, potential environmental impacts, and mitigation measures, and responds to comments on the Draft EIS. The Army will observe a 30-day waiting period before deciding how to proceed.

DATES: The waiting period for the Final EIS will end 30 days after publication of this Notice of Availability in the Federal Register by the U.S. Environmental Protection Agency, at which time the Army can execute a Record of Decision.

ADDRESSES: Please submit questions or requests for a hard copy of the Final EIS to Mr. Matt Sprau at: Directorate of Public Works, ATTN: AMIM-AKP-E (M. Sprau), 1046 Marks Road #4500, Fort Wainwright, AK 99703-4500; or by email at usarmy.wainwright.id-pacific.mbx.heu-eis@army.mil.

FOR FURTHER INFORMATION CONTACT: Mr. Grant Sattler at: Public Affairs Office, AMIM-AKG-PA (Sattler), 1060 Gaffney Road #5900, Fort Wainwright, AK 99703-5900; by telephone at (907) 353-6701; or by email at alan.g.sattler.civ@army.mil.

SUPPLEMENTARY INFORMATION: Fort Wainwright is in the interior of Alaska in the Fairbanks North Star Borough. It is home to U.S. Army Garrison—Alaska (USAG-Alaska) and units of the 11th Airborne Division. The soldiers, families, and civilian employees that make up the Fort Wainwright population rely on a 65-year-old coal-fired CHPP and an antiquated heat distribution system, with 24 percent of the steam and condensate pipe installed in the 1950s, to heat and power more than 400 facilities. The CHPP is one of the oldest working coal-fired power plants in the United States and is operating beyond its design life. Constructing upgraded heat and electrical infrastructure would reduce utility costs, minimize the risk of a catastrophic failure, help safeguard mission readiness, meet energy efficiency standards, comply with emissions standards, and conform to Army-directed energy security criteria.

The Final EIS was prepared in accordance with: the National Environmental Policy Act of 1969 (NEPA), as amended (42 U.S. Code § 4321 et seq.); NEPA implementing regulations issued by the President's Council on Environmental Quality (40 Code of Federal Regulations [CFR] Parts 1500-1508); and the Army's NEPA implementing regulation (32 CFR part 651, Environmental Analysis of Army Actions).

The Final EIS will inform decision-makers, as well as federal, state, and local agencies, interested parties, Alaska Natives, Native Americans, Native American organizations and Tribes, public organizations, and the general public of the possible environmental consequences associated with heat and electrical upgrades at Fort Wainwright.

USAG Alaska is proposing to upgrade its coal-fired central heat and power plant on Fort Wainwright to a more reliable and sustainable heating and electrical infrastructure system that would be compliant with Army installation energy security requirements and air quality regulations for the region. The purpose of the Proposed Action is to provide reliable heat and electrical infrastructure for the installation that resolves current safety, resiliency, fiscal, and regulatory concerns. The Proposed Action is needed to prevent the failure of heat and power generation and distribution. Such a failure could require evacuation of the installation and severely affect mission readiness. USAG-Alaska needs to meet DoD and Army energy efficiency, energy security, and resiliency criteria, and must comply with air quality regulations. Within the last decade, the installation experienced four critical, near-catastrophic failures of the CHPP and 11 unexpected, installation-wide outages due to maintenance, repair, or operational issues. Unexpected outages present substantial risk to safety and mission readiness.

The Final EIS considered a No-Action Alternative and three Action Alternatives that were determined to be reasonable: (1) construction of a new coal-fired CHPP; (2) construction of a new dual-fuel combustion turbine generator CHPP that would primarily rely on natural gas; and (3) decentralization of heat and power, whereby heat would be provided by natural gas boilers at facilities across the installation and electricity would be purchased from a local utility provider.

Implementation of the preferred alternative would result in significant adverse socioeconomic and environmental justice impacts. Significant impacts to cultural resources could be mitigated to be less than significant. Beneficial impacts would primarily involve enhancements in heating efficiency, air quality, and job creation. The Final EIS summarizes the potential impacts for each considered alternative.

The Final EIS identified several non-carbon-based alternative energy sources, including nuclear, geothermal, wind, and solar power. These alternatives were not carried forward for full analysis because they could not fully meet the heat and power needs of the installation. Such technologies could potentially be used in the future to supplement the installation's energy output.

The Army identified Alternative 3, Install Distributed Natural Gas Boilers, as the preferred alternative. The Army based its preference on: public comments; environmental, social, technical, and economic considerations; and the ability to meet the missions of USAG-Alaska and the 11th Airborne Division.

An electronic copy of the Final EIS is available online at: https://home.army.mil/alaska/index.php/fort-wainwright/NEPA/HEU-EIS. Hard copies of the Final EIS will be available at the following facilities when they are open: the Noel Wien Library, 1215 Cowles Street, Fairbanks, AK 99701; the Post Library, Building 3700, Santiago Avenue, Fort Wainwright, AK 99703; and the Tri-Valley Community Library, 400 Suntrana Road, Healy, AK 99743. Requests for a hard copy of the Final EIS can also be directed to Mr. Matt Sprau at: Directorate of Public Works, ATTN: AMIM-AKP-E (M. Sprau), 1046 Marks Road #4500, Fort Wainwright, AK 99703-4500; or by email at usarmy.wainwright.id-pacific.mbx.heu-eis@army.mil.

James W. Satterwhite, Jr.,
Army Federal Register Liaison Officer.

[FR Doc. 2023-02861 Filed 2-9-23; 8:45 am]

BILLING CODE 3711-02-P